DEPARTMENT OF ENERGY

Federal Energy Regulatory Commission

[Docket No. RM01-5-000]

Notice Regarding Inclusion of OLE Objects in Tariff Records and Use of ALJ Settlement Codes; Electronic Tariff Filings

I. Embedded OLE Objects

A number of eTariff filings recently contained tariff records with OLE objects (an object created in one application that can be embedded in another application). For example, some filings have included what were intended to be pictures or line drawings but were in fact embedded program files, .PDF files and PowerPoint (.pptx) files. Since the inception of eTariff, the Commission has not permitted the use of embedded objects in tariff records (when those tariff records were filed as .rtf files).¹ Commission staff is working to create a check that will similarly reject tariff record files in other applications that contain OLE objects.

¹ Validation Code 170 results in rejections of .RTF filings with embedded objects. Commission eTariff website, Validation Error Codes (updated 11/25/2024) (“If a record binary data is provided then the rtf file should not have any embedded OLE objects”), https://www.ferc.gov/sites/default/files/2024-11/validation_error_code.csv; Electronic Tariff Filings, Notice of Proposed Rulemaking, 108 FERC § 61,021, at P 36 (2004) (“The electronic tariff may not include embedded objects.”).

In the meantime, if filings are made with OLE embedded objects, the filing may be rejected, or the filer may be contacted to remake the filing if the embedded object does not render. Filers and third-party software providers also should check their tariff records to make sure they do not contain an OLE object.² Filers should be careful not to click on the Insert/Object tab to import pictures into the document. Pictures still can be included in the tariff record if the picture is pasted into the document or inserted using the Insert tab.

² Clicking Control G in Word or Excel permits a search for embedded objects. Also running the Document Inspector will reveal whether the document contains OLE objects.

II. ALJ Settlement Codes

The ALJ Settlement filing type codes ³ should be used only when filing settlements in matters set for hearing and settlement judge procedures as these filings are directed to the Office of Administrative Law Judges. When parties reach a settlement outside of the hearing and settlement process (e.g., settlements of proceedings with paper hearing procedures), the settlement must be filed using the standard compliance codes applicable to the filer to ensure the filing is properly assigned. Filing of pro forma tariff records are preferred to avoid overlapping tariff records in future filings.

³ Filing type codes 1380, 1385, 1390, 1395, 1400, 1405, 1410, 1415, 1420, and 1425.

For more information, contact Michael.Goldenberg@ferc.gov, James.Sarikas@ferc.gov, or the eTariff Advisory Staff at 202-502-6501 or at etariffresponse@ferc.gov.

Dated: March 7, 2025.
Carlos D. Clay,
Deputy Secretary.

[FR Doc. 2025-03986 Filed 3-12-25; 8:45 am]

BILLING CODE 6717-01-P